GENERAL SERVICES ADMINISTRATION

Privacy Act of 1974; Notice of Updated Systems of Records

AGENCY: General Services Administration

ACTION: Notice; publication of one revised GSA system of records notices that includes a new routine use.

SUMMARY: This system of records was established for the purpose of serving as a basis for taking civil, criminal, and administrative actions, including the issuance of subpoenas, security clearances, suitability determinations, suspension and debarment recommendations and similar authorized activities.

DATES: Effective March 6, 2009.

FOR FURTHER INFORMATION CONTACT: Call or e-mail the GSA Privacy Act Officer: telephone 202-208-1317; e-mail gsa.privacyact@gsa.gov.

ADDRESSES: GSA Privacy Act Officer (CIB), General Services Administration, 1800 F Street NW, Washington, DC 20405.

SUPPLEMENTARY INFORMATION: The current routine use allows disclosure for educational or informational purposes provided the record does not identify a specific individual. The proposed revision would allow public disclosure of information that identifies individuals.

The proposed revised routine use is compatible with the purpose of taking criminal, civil, and administrative actions because the provision to the media or members of the public of information on events in an investigation or an administrative or judicial proceeding helps to preserve confidence in the integrity of the investigative process and to demonstrate the accountability of agency and Office of Inspector General officers and employees, and of those individuals doing business with the United States. It also will enhance the deterrence of similar crimes against the United States.

The proposed revised routine use will only affect the privacy of individuals insofar as they are involved in an investigation or administrative or judicial proceeding. With respect to such individuals, specific information will not be released if such release would constitute an unwarranted invasion of personal privacy.

The proposed revised routine use does not involve any new information collection requests.

Dated: January 27, 2009.
James L. Atwater,
Acting Director, Office of Information Management Office of the Chief Human Capital Officer.

GSA/ADM-24

SYSTEM NAME: Investigation Case Files.

SECURITY CLASSIFICATION: Some of the material contained in the system has been classified in the interests of national security pursuant to Executive Order 11652.

SYSTEM LOCATION: This system is located in the GSA Office of Inspector General, 1800 F Street, NW, Washington, DC 20405. The database for the system, known as the IG-Investigative Documentation Electronic Administrative System (IG-IDEAS), is on a local area network in the GS Building and is operated by the System Development and Support Division of the Office of Inspector General (JPM). The backup tapes for the system are stored at the Mid-Atlantic Investigations Office, 300 D Street, SW, Washington, DC 20024. Some interim reports are filed in the Suspension and Debarment Division, Office of the Chief Acquisition Officer.

CATEGORIES OF INDIVIDUALS COVERED BY THE SYSTEM: Individuals covered by the system are employees, former employees, and applicants for employment with GSA, as well as commissions, committees and small agencies serviced by GSA. The system also includes historical researchers, employees of contractors performing custodial or guard services in buildings under GSA control, any person who was the source of a complaint or an allegation that a crime had taken place, a witness who has information or evidence on any side of an investigation, and any possible or actual suspect in a criminal, administrative (including suspension and/or debarment actions), or civil action.

CATEGORIES OF RECORDS IN THE SYSTEM: Investigative files containing personal information, including name, date, and place of birth, experience, and investigative material that is used as a basis for taking civil, criminal, and administrative actions.

AUTHORITY FOR MAINTENANCE OF THE SYSTEM: 5 U.S.C. app. 3 sec. 2 et seq.

PURPOSE(S): The system serves as a basis for taking civil, criminal, and administrative actions, including the issuance of subpoenas, security clearances, suitability determinations, suspension and debarment recommendations, and similar authorized activities.

ROUTINE USES OF RECORDS MAINTAINED IN THE SYSTEM, INCLUDING CATEGORIES OF USERS AND THE PURPOSES OF SUCH USES:

Records are used by GSA officials and representatives of other government agencies on a need-to-know basis in the performance of their official duties under the authorities set forth above and for the following routine uses:

a. A record of any case in which there is an indication of a violation of law, whether civil, criminal, or regulatory in nature, may be disseminated to the appropriate Federal, State, local, or foreign agency charged with the responsibility for investigating or prosecuting such a violation or charged with enforcing or implementing the law.

b. A record may be disclosed to a Federal, State, local, or foreign agency or to an individual or organization in the course of investigating a potential or actual violation of any law, whether civil, criminal, or regulatory in nature, or during the course of a trial or hearing or the preparation for a trial or hearing for such a violation, if there is reason to believe that such agency, individual, or organization possesses information relating to the investigation, and disclosing the information is reasonably necessary to elicit such information or to obtain the cooperation of a witness or an informant.

c. A record relating to a case or matter may be disclosed in an appropriate Federal, State, local, or foreign court or grand jury proceeding in accordance with established constitutional, substantive, or procedural law or practice, even when the agency is not a party to the litigation.

d. A record relating to a case or matter may be disclosed to an actual or potential party or to his or her attorney for the purpose of negotiation or discussion on matters such as settlement of the case or matter, plea-bargaining, or informal discovery proceedings.

e. A record relating to a case or matter that has been referred by an agency for investigation, prosecution, or enforcement or that involves a case or matter within the jurisdiction of any agency may be disclosed to the agency to notify it of the status of the case or matter or of any decision or determination that has been made, or to make such other inquiries and reports as are necessary during the processing of the case or matter.

f. A record relating to a case or matter may be disclosed to a foreign country pursuant to an international treaty or convention entered into and ratified by the United States, or to an Executive agreement.

g. A record may be disclosed to a Federal, State, local, foreign, or international law enforcement agency to assist in crime prevention and detection or to provide leads for investigation.

h. A record may be disclosed to a Federal, State, local, foreign, or tribal or other public authority in response to its request in connection with the hiring or retention of an employee, the issuance of a security clearance, the reporting of an investigation of an employee, the letting of a contract, or the issuing of a license, grant, or other benefit by the requesting agency, to the extent that the information relates to the requesting agency’s decision on the matter.

i. A record may be disclosed to the news media and public in order to provide information on events in an investigation or administrative or judicial proceeding when the Inspector General determines there exists a legitimate public interest, unless the Inspector General determines that release of the specific information in the context of a particular case would constitute an unwarranted invasion of personal privacy.

j. A record may be disclosed to an appeal or grievance examiner, formal complaints examiner, equal opportunity investigator, arbitrator, or other authorized official engaged in investigation or settlement of matters and investigations involving the Merit Systems Protection Board or the Office of Special Counsel.

k. A record may be disclosed as a routine use to a Member of Congress or to a congressional staff member in response to an inquiry of the congressional office made at the request of the person who is the subject of the record.

l. Information may be disclosed at any stage of the legislative coordination and clearance process to the Office of Management and Budget (OMB) for reviewing of private relief legislation as set forth in OMB Circular No. A-19.

m. A record may be disclosed: (a) To an expert, a consultant, or contractor of GSA engaged in a duty related to an agency function to the extent necessary to perform the function; and (b) to a physician to conduct a fitness-for-duty examination of a GSA officer or employee.

n. A record may be disclosed to an official charged with the responsibility to conduct qualitative assessment reviews of internal safeguards and management procedures employed in investigative operations. This disclosure category includes members of the President’s Council on Integrity and Efficiency and officials and administrative staff within their investigative chain of command, as well as authorized officials of the Department of Justice and the Federal Bureau of Investigation.

o. A record relating to a case may be disclosed to the GSA Office of Acquisition Policy for a decision or determination regarding suspension and debarment measures taken by the Government to disqualify contractors from participation in Government contracting or subcontracting.

p. To appropriate agencies, entities, and persons when (1) the Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA’s efforts to respond to the suspected or confirmed compromise and prevent, minimize, or remedy such harm.

q. In any legal proceeding, where pertinent, to which GSA is a party before a court or administrative body.

r. To the Office of Personnel Management (OPM), the Office of Management and Budget (OMB), and the Government Accountability Office (GAO) in accordance with their responsibilities for evaluating Federal programs.

s. To the National Archives and Records Administration (NARA) for records management purposes.

POLICIES AND PRACTICES FOR STORING, RETRIEVING, ACCESSING, RETAINING, AND DISPOSING OF RECORDS IN THE SYSTEM:

STORAGE: Paper records are kept in files and file folders. Electronic records are stored in an electronic database or on hard or floppy disks and tapes.

RETRIEVABILITY: Paper records are retrievable manually by name from files indexed alphabetically and filed numerically by location and incident. Electronic records are retrievable by case number or by full or partial name.

SAFEGUARDS: Paper records are stored in locked rooms with access limited to authorized personnel. Computer-based records are available only to authorized users with a need to know and are protected by a network logon password, user password, and restricted right of access to the software, system, file, data element, and report.

RETENTION AND DISPOSAL: Records are disposed of by shredding or burning, as scheduled in the HB, GSA Maintenance and Disposition System (CIO P 1820.1), and the records schedules authorized by that system.

SYSTEM MANAGER AND ADDRESS: The system manager is the System Development and Support Division of the Office of Inspector General (JPM). The mailing address is: General Services Administration (JPM), 1800 F Street, NW, Washington, DC 20405.

NOTIFICATION PROCEDURE: An individual who wishes to be notified whether the system contains a record concerning him or her should address a request to the Office of Counsel to the Inspector General (JC), General Services Administration, Room 5324, 1800 F Street, NW, Washington, DC 20405.

RECORD ACCESS PROCEDURES: An individual seeking access to a record should put his or her request in writing and address it to the Office of Counsel to the Inspector General (JC), including full name (maiden name if appropriate), address, and date and place of birth. General inquiries may be made by calling the Office of Counsel to the Inspector General at (202) 501-1932.

CONTESTING RECORD PROCEDURES: GSA rules for contesting the content of a record or appealing a denial of a request to amend a record are in 41 CFR part 105-64.

RECORD SOURCE CATEGORIES: The sources are individuals themselves, employees, informants, law enforcement agencies, other government agencies, employers, references, co-workers, neighbors, educational institutions, and intelligence sources.

EXEMPTION CLAIMED FOR THE SYSTEM: In accordance with 5 U.S.C. 552a(j), this system of records is exempt from all provisions of the Privacy Act of 1974 with the exception of subsections (b); (c)(1) and (2); (e)(4)(A) through (F); (e)(6), (7), (9), (10), and (11); and (i) of the Act, to the extent that information in the system pertains to the enforcement of criminal laws, including police efforts to prevent, control, or reduce crime or to apprehend criminals; to the activities of prosecutors, courts, and correctional, probation, pardon, or parole authorities; and to (a) information compiled for the purpose of identifying individual criminal offenders and alleged offenders and consisting only of identifying data and notations of arrests, the nature and disposition of criminal charges, sentencing, confinement, release, and parole and probation status; (b) information compiled for the purpose of a criminal investigation, including reports of informants and investigators, that is associated with an identifiable individual; or (c) reports of enforcement of the criminal laws, from arrest or indictment through release from supervision. This system is exempted to maintain the efficacy and integrity of the Office of Inspector General’s law enforcement function. In accordance with 5 U.S.C. 552a(k), this system of records is exempt from subsections (c)(3); (d); (e)(1); (e)(4)(G), (H), and (I); and (f) of the Privacy Act of 1974.

THE SYSTEM IS EXEMPT:

a. To the extent that the system consists of investigatory material compiled for law enforcement purposes. However, if an individual is denied any right, privilege, or benefit to which the individual would otherwise be eligible as a result of the maintenance of such material, such material shall be provided to such individual, except to the extent that the disclosure of such material would reveal the identity of a source who furnished information to the government under an express promise that the identity of the source would be held in confidence, or, prior to the effective date of the Act, under an implied promise that the identity of the source would be held in confidence; and

b. To the extent the system consists of investigatory material compiled solely for the purpose of determining suitability, eligibility, or qualifications for Federal civilian employment, military service, Federal contracts, or access to classified information, but only to the extent that the disclosure of such material would reveal the identity of a source who furnished information to the Government under an express promise that the identity of the source would be held in confidence, or, prior to the effective date of the Act, under an implied promise that the identity of the source would be held in confidence. This system has been exempted to maintain the efficacy and integrity of lawful investigations conducted pursuant to the Office of Inspector General’s law enforcement responsibilities and responsibilities in the areas of Federal employment, government contracts, and access to security classified information.

[FR Doc. E9-2326 Filed 2-3-09; 8:45 am]

BILLING CODE 6820-34-S